OFFICE OF MANAGEMENT AND BUDGET

Office of Federal Procurement Policy

DEPARTMENT OF DEFENSE

GENERAL SERVICES ADMINISTRATION

NATIONAL AERONAUTICS AND SPACE ADMINISTRATION

48 CFR Chapter 1

[Docket No. FAR-2025-0051, Sequence No. 3]

Federal Acquisition Regulation; Federal Acquisition Circular 2025-06; Small Entity Compliance Guide

AGENCY: Office of Federal Procurement Policy (OFPP), Office of Management and Budget; Department of Defense (DoD); General Services Administration (GSA); and National Aeronautics and Space Administration (NASA).

ACTION: Small Entity Compliance Guide (SECG).

SUMMARY: This document is issued under the joint authority of OFPP, DoD, GSA, and NASA. This Small Entity Compliance Guide has been prepared in accordance with section 212 of the Small Business Regulatory Enforcement Fairness Act of 1996. It consists of a summary of the rule appearing in Federal Acquisition Circular (FAC) 2025-06, which amends the Federal Acquisition Regulation (FAR). Interested parties may obtain further information regarding this rule by referring to FAC 2025-06, which precedes this document.

DATES: August 27, 2025.

ADDRESSES: The FAC, including the SECG, is available at https://www.regulations.gov.

FOR FURTHER INFORMATION CONTACT: For clarification in relation to the FAR case listed in the table below, contact FARPolicy@gsa.gov or call 202-969-4075. Please cite FAC 2025-06 and the FAR Case number. For information pertaining to status or publication schedules, contact the Regulatory Secretariat Division at 202-501-4755 or GSARegSec@gsa.gov. An asterisk (*) next to a rule indicates that a regulatory flexibility analysis has been prepared.

Rule Listed in FAC 2025-06
Subject | FAR Case
*Inflation Adjustment of Acquisition—Related Thresholds | 2024-001

SUPPLEMENTARY INFORMATION: A summary for the FAR rule follows. For the actual revisions and/or amendments made by this FAR rule, refer to the specific subject set forth in the document preceding this summary. FAC 2025-06 amends the FAR as follows:

Inflation Adjustment of Acquisition-Related Thresholds (FAR Case 2024-001)

This final rule amends the FAR to further implement 41 U.S.C. 1908. Section 1908 requires an adjustment, for inflation, every 5 years (in years evenly divisible by 5) of statutory acquisition-related thresholds using the Consumer Price Index for all urban consumers, except for the Construction Wage Rate Requirements statute (Davis-Bacon Act), Service Contract Labor Standards statute, performance and payment bonds (formerly the Miller Act), and trade agreements thresholds (see FAR 1.109). OFPP, DoD, GSA, and NASA are also using the same methodology to change nonstatutory FAR acquisition-related thresholds for 2025. The final rule is not expected to have a significant impact on the public or the Government because the rule is intended to maintain the status quo by adjusting acquisition-related thresholds for inflation.

William F. Clark,
Director, Office of Government-wide Acquisition Policy, Office of Acquisition Policy, Office of Government-wide Policy.

[FR Doc. 2025-16413 Filed 8-26-25; 8:45 am]

BILLING CODE 6820-EP-P